DEPARTMENT OF TRANSPORTATION

Federal Highway Administration

Environmental Impact Statement in Erie County, NY

AGENCY: Federal Highway Administration (FHWA), U.S. DOT.

ACTION: Notice of intent.

SUMMARY: The FHWA is issuing this notice to advise the public that an Environmental Impact Statement (EIS) will be prepared for a proposed project known as the New York State (NYS) Route 5 (Buffalo Skyway) Project, in Erie County, New York.

FOR FURTHER INFORMATION CONTACT: Frank Cirillo, Regional Director, New York State Department of Transportation, 100 Seneca Street, Buffalo, New York 14203, Telephone: (716) 847-3238; or Richard Marquis, Division Administrator, Federal Highway Administration, New York Division, Leo W. O'Brien Federal Building, 7th Floor, 11A Clinton Avenue, Albany, New York 12207, Telephone (518) 431-4127.

SUPPLEMENTARY INFORMATION: The New York State Department of Transportation (NYSDOT), in cooperation with FHWA, will prepare an EIS in accordance with the National Environmental Policy Act (NEPA) on a proposal to remove the Buffalo Skyway bridge and its approaches, including portions of NYS Route 5 along the Outer Harbor, and realign the transportation network within the Buffalo Outer Harbor and South Buffalo areas.

NYS Route 5 serves as the primary vehicular route connecting Buffalo's downtown to its southern suburbs. In recent years, the Buffalo Inner and Outer Harbors have undergone substantial redevelopment with recreational/mixed-use improvements. It has become apparent that the portions of NYS Route 5 along the Buffalo Outer Harbor, including the Skyway Bridge, present both a physical and visual barrier to continued development within this area. Infrastructure removal is needed to accommodate existing and planned recreational, mixed-use, and waterfront development and support waterfront economic development initiatives. The project is also needed to improve the transportation network to safely and efficiently accommodate the traffic currently carried by the Skyway Bridge and to address the safety, operational, and capacity deficiencies of the highway connections that serve economic development areas and local communities within South Buffalo.

The purpose of the project is to realign the existing transportation network to support existing and planned recreational, mixed-use, and waterfront development in the Buffalo Outer Harbor area. The project will also address the safety, operational, and capacity deficiencies of the highway connections that serve economic development areas and local communities within South Buffalo.

A reasonable range of alternatives is currently being considered and will be evaluated during the NEPA scoping process in consideration of agency and public comments received. Letters describing the proposed action and soliciting comments have been sent to Cooperating and Participating Agencies. Public and agency outreach will include formal Public Scoping Meetings, a Public Hearing, and consultation with Cooperating and Participating Agencies. Public notice will be given of the dates, times, and locations of the Scoping Meetings and Public Hearing.

To assist in determining the scope of issues to be addressed and identifying the potential for significant issues related to the proposed action, the general public will have the opportunity to submit written comments at the Scoping Meetings and during a scoping comment period. A Draft EIS will be available for public and agency review and comment prior to the Public Hearing.

Comments or questions concerning this proposed action should be directed to the NYSDOT and FHWA at the addresses provided above.

Issued on: December 11, 2019.
Richard J. Marquis,
New York Division Administrator, Albany, New York.

[FR Doc. 2019-27420 Filed 12-19-19; 8:45 am]

BILLING CODE 4910-RY-P